DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (the Department) has received requests to conduct administrative reviews of various antidumping and countervailing duty orders and findings with September anniversary dates. In accordance with the Department's regulations, we are initiating those administrative reviews.

EFFECTIVE DATE: October 24, 2002.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with September anniversary dates.

Initiation of Reviews

In accordance with 19 CFR 351.221(c)(1)(i), we are initiating administrative reviews of the following antidumping and countervailing duty orders and findings. We intend to issue the final results of these reviews not later than September 30, 2003.

| Period to be reviewed
Antidumping Duty Proceedings:
Latvia: Steel Concrete Reinforcing Bars A-449-804 | 1/30/01-8/31/02
Joint Stock Company Liepajas Metalurgs.
South Africa: Certain Hot-Rolled Carbon Steel Flat Products, A-791-809 | 5/3/01-8/31/02
Iscor, Ltd.
Highveld Steel and Vanadium Corp., Ltd.
Saldanha Steel, Ltd.
South Korea: Stainless Steel Wire Rod, A-580-829 | 9/1/01—8/31/02
Changwon Specialty Steel Co., Ltd.
Dongbang Special Steel Co., Ltd.
South Korea: Steel Concrete Reinforcing Bars, A-580-844 | 1/30/01-8/31/02
Dongkuk Steel Mill Co., Ltd.
Spain: Stainless Steel Wire Rod, A-469-807 | 9/1/01-8/31/02
Roldan, S.A.
The People's Republic of China: Foundry Coke ¹, A-570-862 | 3/8/01-8/31/02
CITIC Trading Co., Ltd.
The People's Republic of China: Freshwater Crawfish Tail Meat ², A-570-848 | 9/1/01-8/31/02
China Everbright
China Kingdom Import & Export Co., Ltd., aka China Kingdoma Import & Export Co., Ltd., aka Zhongda Import & Export Co., Ltd.
Fujian Pelagic Fishery Group Co.
Huaiyin Foreign Trade Corporation (5)
Jiangsu Hilong International Trading Co., Ltd.
Huaiyin Foreign Trade Corporation (30)
Jiangsu Cereals, Oils, & Foodstuffs Import & Export Corp.
Nantong Delu Aquatic Food Co., Ltd.
Nantong Shengfa Frozen Food Co., Ltd.
Ningbo Nanlian Frozen Foods Co., Ltd.
North Supreme Seafood (Zhejiang) Co., Ltd.
Qingdao Rirong Foodstuff Co., Ltd., aka Qingdao Rirong Foodstuffs
Qingdao Zhengri Seafood Co., Ltd., aka Qingdao Zhengri Seafoods
Shanghai Taoen International Trading Co., Ltd.
Shantou SEZ Yangfeng Marine Products Co.
Shouzhou Huaxiang Foodstuffs Co., Ltd.
Suqian Foreign Trade Corp., aka Suqian Foreign Trading
Weishan Fukang Foodstuffs Co., Ltd.
Weishan Zhenyu Foodstuff Co., Ltd.
Yancheng Baolong Biochemical Products Co., Ltd.
Yancheng Foreign Trade Corp., aka Yancheng Foreign Trading, aka Yang Chen Foreign Trading
Yancheng Haiteng Aquatic Products & Foods Co., Ltd.
Yancheng Yaou Seafoods
Yangzhou Lakebest Foods Co., Ltd.
¹ If one of the above named companies does not qualify for a separate rate, all other exporters of foundry coke from the People's Republic of China who have not qualified for a separate rate are deemed to be covered by this review as part of the single PRC entity of which the named exporters are a part.
² If one of the above named companies does not qualify for a separate rate, all other exporters of freshwater crawfish tail meat from the People's Republic of China who have not qualified for a separate rate are deemed to be covered by this review as part of the single PRC entity of which the named exporters are a part.

Countervailing Duty Proceedings:
Argentina: Certain Hot-Rolled Steel Flat Products, C-357-815 | 1/1/01-12/31/01
Siderar S.A.I.C.
Italy: Stainless Steel Wire Rod, C-475-821 | 1/1/01-12/31/01
Acciaierie Valbruna S.P.A.

Suspension Agreements

None.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: October 18, 2002.
Holly A. Kuga,
Senior Office Director, Group II, Office 4, Import Administration.

[FR Doc. 02-27145 Filed 10-23-02; 8:45 am]

BILLING CODE 3510-DS-P